DEPARTMENT OF TRANSPORTATION

Surface Transportation Board

[STB Finance Docket No. 34018]

Yolo Shortline Railroad Company—Acquisition and Operation Exemption—County of Sacramento, CA

Yolo Shortline Railroad Company (Yolo), a Class III rail carrier, has filed a verified notice of exemption under 49 CFR 1150.41 to acquire from the County of Sacramento, CA (County), the exclusive occupancy and operating rights over 7 miles of unmarked railroad track within McClellan Park,¹ in McClellan, CA.² In addition, Yolo has leased the associated engine house and shop.

¹ Yolo states that McClellan Park a new site being developed from the former McClellan Air Force Base (Base), which was slated for closure by the U.S. Department of Defense and will be officially closed by the U.S. Air Force in July 2001. Yolo indicates that, as portions of the Base are closed, they are turned over to the County for redevelopment. According to Yolo, there is no rail traffic currently at McClellan Park but that the track is usable for team track and reloading areas and service to warehousing.

² Yolo notes that the Union Pacific Railroad Company has filed McClellan Park at milepost 97.5 on its Martinez Subdivision, between Roseville and Sacramento, CA. Certain attachments to the verified notice indicate that the Base is in Planehaven, CA.

The transaction is scheduled to be consummated on or about April 2, 2001. The earliest the transaction could be consummated was March 16, 2001, 7 days after the exemption was filed.

If the verified notice contains false or misleading information, the exemption is void ab initio. Petitions to reopen the proceeding to revoke the exemption under 49 U.S.C. 10502(d) may be filed at any time. The filing of a petition to revoke will not automatically stay the transaction.

An original and 10 copies of all pleadings, referring to STB Finance Docket No. 34018, must be filed with the Surface Transportation Board, Office of the Secretary, Case Control Unit, 1925 K Street, NW., Washington, DC 20423-0001. In addition, a copy of each pleading must be served on Mr. David Magaw, General Manager, Yolo Shortline Railroad, 341 Industrial Way, Woodland, CA 95776.

Board decisions and notices are available on our website at http://www.stb.dot.gov.

Decided: March 20, 2001.
By the Board, David M. Konschnik, Director, Office of Proceedings.
Vernon A. Williams,
Secretary.

[FR Doc. 01-7397 Filed 3-26-01; 8:45 am]

BILLING CODE 4915-00-P